DEPARTMENT OF COMMERCE

International Trade Administration Import Administration

[A-570-827]

Notice of Amended Final Results in Accordance With Court Decision: Antidumping Duty Administrative Review of Certain Cased Pencils from the People's Republic of China

AGENCY: Import Administration, International Trade Administration, Department of Commerce.

SUMMARY: On March 7, 2006, the United States Court of International Trade (CIT) affirmed the voluntary redetermination of the Department of Commerce (the Department) in the antidumping duty (AD) administrative review of certain cased pencils (pencils) from the People's Republic of China (PRC). See China First Pencil Co. Ltd., et al. v. United States and Sanford Corporation, et al., 427 F. Supp 2d 1236 (CIT 2006), and the Department's Final Results of Voluntary Redetermination Pursuant to Court Order: China First Pencil Co., Ltd., et al. and Shandong Rongxin Import & Export Co., Ltd., v. United States and Sanford Corporation, et al. (dated December 20, 2004). As there is now a final and conclusive court decision in this case, the Department is amending the final results of this administrative review.

EFFECTIVE DATE: August 10, 2006.

FOR FURTHER INFORMATION CONTACT: Magd Zalok or Howard Smith at (202) 482-4162 or (202) 482-5193, respectively; AD/CVD Operations, Office 4, Import Administration, International Trade Administration, U.S. Department of Commerce, 14th Street and Constitution Avenue, NW, Washington, DC 20230.

SUPPLEMENTARY INFORMATION:

Background

On May 21, 2004, the Department published in the Federal Register the final results of the 2002 antidumping duty administrative review of pencils from the PRC. See Certain Cased Pencils From the People's Republic of China; Final Results and Partial Rescission of Antidumping Duty Administrative Review, 69 FR 29266 (2002 Final Results of Review). In that review, the Department used Monthly Statistics of the Foreign Trade of India (MSFTI) for the period of review (POR) to value black and color pencil cores, material inputs used in the production of certain cased pencils.

During July 2004, the respondents in the 2002 antidumping duty review of pencils from the PRC filed complaints with the CIT contesting, among other things, the surrogate value assigned to pencil cores in the 2002 Final Results of Review.¹ On September 1, 2004, the Department filed a motion with the CIT for a voluntary remand with respect to the pencil core issue. On September 20, 2004, the CIT remanded this case to the Department to conduct further proceedings concerning the valuation of pencil cores. On December 20, 2004, the Department issued its final results of voluntary redetermination.

¹ The respondents are China First Pencil Co., Ltd., Orient International Holding Shanghai Foreign Trade Co., Ltd., Three Star Stationery Industry Corp. (collectively “CFP et al.”) and Shandong Rongxin Import & Export Co., Ltd. (Shandong).

In its redetermination, the Department concluded that it was better to value pencils cores using MSFTI data covering the immediately preceding POR (2001 MSFTI data), adjusted for inflation and valuation differences between black and color cores, rather than MSFTI data covering the instant POR. The Department reached this conclusion because, unlike the MSFTI data for the instant POR, the 2001 MSFTI data were consistent with price information obtained by the Department during the course of the redetermination. On March 7, 2006, the CIT affirmed the Department's voluntary redetermination, as well as its position on other issues arising from the 2002 Final Results of Review. See China First Pencil Co. Ltd., et al. v. United States and Sanford Corporation, et al., 427 F. Supp 2d 1236 (CIT 2006). Consistent with the decision of the United States Court of Appeals for the Federal Circuit (Federal Circuit) in The Timken Company v. United States and China National Machinery and Equipment Import and Export Corporation, 893 F. 2d 337 (Fed. Cir. 1990) (Timken), on April 3, 2006, the Department published a notice announcing that the CIT's decision was not in harmony with the Department's determination in the 2002 antidumping duty administrative review of pencils from the PRC. No party appealed the CIT's decision.

Amended Final Results of Review

As the litigation in this case has concluded, the Department is amending the 2002 Final Results of Review. The dumping margins in the amended final results of review are as follows:

Exporter/Manufacturer | Margin (percent)
China First Pencil Company, Ltd./Three Star Stationery Industry Corp | 16.50
Orient International Holding Shanghai Foreign Trade Co. Ltd | 5.63
Shandong Rongxin Import & Export Company Ltd | 4.21

The PRC-wide rate continues to be 114.90 percent.

Assessment

Consistent with the 2002 Final Results of Review, for each of the above respondents we calculated exporter-specific assessment rates because there is no information on the record which identifies the importers of record. Specifically, for these respondents we calculated duty assessment rates for subject merchandise based on the ratio of the total amount of antidumping duties calculated for the examined sales to the total quantity of those sales. The Department will issue appropriate assessment instructions directly to U.S. Customs and Border Protection within 15 days of publication of this notice.

This notice is issued and published in accordance with sections 751(a)(1) and 777(i)(1) of the Tariff Act of 1930, as amended.

Dated: August 1, 2006.
David M. Spooner,
Assistant Secretary for Import Administration.

[FR Doc. E6-13040 Filed 8-9-06; 8:45 am]

BILLING CODE 3510-DS-S